NATIONAL CREDIT UNION ADMINISTRATION

Agency Information Collection Activities: Submission to OMB for Reinstatement; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is published to obtain comments from the public.

DATES: Comments will be accepted until May 29, 2007.

ADDRESSES: Interested parties are invited to submit written comments to NCUA Clearance Officer or OMB Reviewer listed below:

Clearance Officer: Mr. Neil McNamara, (703) 518-6440, National Credit Union Administration, 1775 Duke Street, Alexandria, Virginia 22314-3428; Fax No. 703-837-2861. E-mail: OCIOmail@ncua.gov.

OMB Reviewer: NCUA Desk Officer, Office of Management and Budget, Room 10226, New Executive Office Building, Washington, DC 20503.

FOR FURTHER INFORMATION CONTACT: Requests for additional information or a copy of the information collection request should be directed to Tracy Sumpter at the National Credit Union Administration, 1775 Duke Street, Alexandria, VA 22314-3428 or at (703) 518-6444.

SUPPLEMENTARY INFORMATION: Proposal for the following collection of information:

OMB Number: 3133-0163.

Form Number: N/A.

Type of Review: Reinstatement, without change, of a previously approved collection for which approval has expired.

Title: Privacy of Consumer Financial Information Requirements for Insurance, 12 CFR part 716 and Requirements for Insurance, 12 CFR part 741.

Description: This information collection is needed to evidence compliance with title V of the Gramm-Leach-Bliley Act.

Estimated No. of Respondents/Recordkeepers: 8,462.

Estimated Burden Hours per Response: 45 hours.

Frequency of Response: Recordkeeping and third party disclosure.

Estimated Total Annual Burden Hours: 380,790.

Estimated Total Annual Cost: $0.

By the National Credit Union Administration Board on March 22, 2007.
Mary Rupp,
Secretary of the Board.

[FR Doc. E7-5645 Filed 3-27-07; 8:45 am]

BILLING CODE 7535-01-P